NATIONAL SCIENCE FOUNDATION

Notice of Permit Application Received Under the Antarctic Conservation Act of 1978

AGENCY: National Science Foundation.

ACTION: Notice of permit applications received under the Antarctic Conservation Act.

SUMMARY: Notice is hereby given that the National Science Foundation (NSF) has received a waste management permit application for operation of remote field camps during a skiing/climbing expedition in the Antarctic interior. The application is submitted to NSF pursuant to regulations issued under the Antarctic Conservation Act of 1978.

DATES: Interested parties are invited to submit written data, comments, or views with respect to this permit application by October 3, 2003. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for the operation of an expedition to Antarctica. Ice Axe Productions, Inc., with a team of 5 experienced climbers and photographers will travel by air from Novolarevskaya Station to the Patriot Hills, then ski to Holtanna in the Orvin Fjella Mountain Range, then proceed to the Wohlthat Mountains. The team's camping facilities will be basic and mobile. The team will use white gas for cooking. All wastes will be collected and transported back to Novolrevskaya for disposition.

Application for the permit is made by: Doug Stoup, President, Ice Axe Productions, Inc., 3650, NW., 5th Avenue, Boca Raton, FL 33431.

Location: Patriot Hills, the Orvin Fjella Mountain Range, and the Wohlthat Mountains, Antarctica.

Dates: October 1, 2003, to March 31, 2008.

Nadene G. Kennedy,
Permit Officer.

[FR Doc. 03-22429 Filed 9-2-03; 8:45 am]

BILLING CODE 7555-01-M